NUCLEAR REGULATORY COMMISSION

10 CFR Part 50

[NRC-2018-0289]

RIN 3150-AK21

American Society of Mechanical Engineers 2021-2022 Code Editions

Correction

In Proposed Rule document, 2023-16686, appearing on pages 53384 through 53402 in the issue of Tuesday August 8, 2023, on page 53402 in lines 15 and 22, the text “September 7, 2023” in both instances is corrected to read “[DATE 30 DAYS AFTER DATE OF PUBLICATION OF THE FINAL RULE IN THE FEDERAL REGISTER]”.

[FR Doc. C1-2023-16686 Filed 8-28-23; 8:45 am]

BILLING CODE 0099-10-P